DEPARTMENT OF THE INTERIOR

Fish and Wildlife Service

Draft Post-Delisting Monitoring Plan for the Douglas County Distinct Population Segment of the Columbian White-tailed Deer (Odocoileus virginianus leucurus)

AGENCY: Fish and Wildlife Service, Interior.

ACTION: Notice of document availability for review and comment.

SUMMARY: We, the U.S. Fish and Wildlife Service, announce the availability of the Draft Post-delisting Monitoring Plan for the Douglas County Distinct Population Segment of the Columbian White-tailed Deer (Odocoileus virginianus leucurus) (Monitoring Plan). The status of the Douglas County distinct population segment of the Columbian white-tailed deer will be monitored over a 5-year period through spring and fall population trend monitoring surveys, regular disease outbreak monitoring, and an annual habitat status review. We solicit review and comment on this Monitoring Plan from local, State and Federal agencies, and the public.

DATES: We will accept and consider all public comments received on or before December 23, 2005.

ADDRESSES: Copies of the Monitoring Plan are available by request from the State Supervisor, U.S. Fish and Wildlife Service, Oregon Fish and Wildlife Office, 2600 SE. 98th Avenue, Suite 100, Portland, Oregon 97266 (telephone: 503-231-6179; fax: 503-231-6195). This Monitoring Plan is also available on the World Wide Web at http://www.fws.gov/oregonfwo/EndSpp/ESA-Actions/PDMonitorCWTDeer-05.htm.

FOR FURTHER INFORMATION CONTACT: Cat Brown, Fish and Wildlife Biologist, at the above Portland address.

SUPPLEMENTARY INFORMATION:

Background

The Douglas County distinct population segment of the Columbian white-tailed deer was removed from the Federal List of Threatened and Endangered Wildlife and Plants on July 24, 2003 (68 FR 43647). We determined it was recovered due to robust population growth and amelioration of threats to its survival. Section 4(g)(1) of the Endangered Species Act (Act) (16 U.S.C. 1531 et seq.) requires that we implement a system, in cooperation with the States, to monitor for no fewer than 5 years the status of all species that have recovered and no longer need the protection of the Act.

The Columbian white-tailed deer is the westernmost representative of 30 subspecies of white-tailed deer in North and Central America (Halls 1978; Baker 1984). The subspecies was formerly distributed throughout the bottomlands and prairie woodlands of the lower Columbia, Willamette, and Umpqua River basins in Oregon and southern Washington (Bailey 1936; Verts and Carraway 1998). It currently exists in two distinct population segments, one in Douglas County, Oregon, and the other along the lower Columbia River in Oregon and Washington. The Columbia River distinct population segment remains listed as endangered.

We propose to monitor the status of the Columbian white-tailed deer over a 5-year period in cooperation with the Oregon Department of Fish and Wildlife and the Bureau of Land Management, through spring and fall population trend monitoring surveys, regular disease outbreak monitoring, and an annual habitat status review. We will compile annual reports, in cooperation with the Oregon Department of Fish and Wildlife and the Bureau of Land Management. If data from this monitoring effort, or some other source, indicate that the Columbian white-tailed deer is experiencing significant declines in abundance or distribution, or that it requires protective status under the Act for some other reason, we can initiate listing procedures including, if appropriate, emergency listing.

In April 2004, we contacted three experts on the white-tailed deer, asking for scientific review of the draft Monitoring Plan. We received two responses to our request. We carefully considered the comments of the reviewers and used them to improve the Monitoring Plan.

Public Comments Solicited

We will accept written comments and information during this comment period. If you wish to comment, you may submit your comments and materials concerning this Monitoring Plan by any of these methods:

1. You may submit written comments and information by mail, facsimile, or in person to the Oregon Fish and Wildlife Office at the above address (see ADDRESSES).

2. You may send comments by electronic mail (e-mail) to: cwtdeerplan@fws.gov. If you submit comments by e-mail, please submit them as an ASCII file and avoid the use of special characters and any form of encryption. Please also include your name and return address in your e-mail message.

Comments and materials received, as well as supporting documentation used in preparation of the Monitoring Plan, will be available for inspection, during normal business hours at the above Portland address (see ADDRESSES).

References Cited

Bailey, V. 1936. The mammals and life zones of Oregon. U.S. Government Printing Office, Washington, DC. 416 pp.

Baker, R.H. 1984. Origin, classification and distribution. Pages 1-18 in: Halls, L. K., editor. White-tailed Deer: Ecology and Management. Stackpole Books, Harrisburg, Pennsylvania.

Halls, L. K. 1978. White-tailed Deer. Pages 43-65 in: Schmidt, J. L. and D. L. Gilbert, editors. Big Game of North America: Ecology and Management. Stackpole books, Harrisburg, Pennsylvania.

Verts, B. J. and L. N. Carraway. 1998. Land mammals of Oregon. University of California Press, Berkeley, California. 668 pp.

Author

The primary author of this document is Cat Brown, Oregon Fish and Wildlife Office (see ADDRESSES).

Authority

The authority for this action is the Endangered Species Act of 1973 (16 U.S.C. 1531 et seq.).

Dated: October 24, 2005.
David J. Wesley,
Acting Regional Director, Region 1, U.S. Fish and Wildlife Service.

[FR Doc. 05-23157 Filed 11-22-05; 8:45 am]

BILLING CODE 4310-55-P